DEPARTMENT OF JUSTICE

Notice of Lodging of Proposed Consent Decree Under the Clean Air Act and the Federal Debt Collection Procedures Act

On January 10, 2020, the Department of Justice lodged a proposed Consent Decree with the United States District Court for the Middle District of Florida in the lawsuit entitled United States of America v. Punch It Performance and Tuning, et al., Civil Action No. 6:19-cv-01115-RBD-EJK.

The Complaint in this Clean Air Act (“CAA”) case was filed against Punch It Performance and Tuning LLC; D N S Enterprises of Florida, Inc.; REI Research Group, Inc.; Michael Paul Schimmack; Vanessa Schimmack; and Lori Brown (“Defendants”) on June 14, 2019. The Complaint alleges civil violations of the CAA, and the fraudulent transfer of assets under the Federal Debt Collection and Procedures Act (“FDCPA”). Specifically, the Complaint alleges that certain Defendants manufactured and sold devices that defeat motor vehicle emission controls that are illegal under Section the CAA. The Complaint further alleges that, after the Defendants learned of federal enforcement efforts, assets were fraudulently transferred from two of the companies to Michael Paul Schimmack, Vanessa Schimmack, and Lori Brown in violation of the FDCPA.

Under the proposed Consent Decree, the Defendants (1) will pay, in three installments over one year, $850,000 in civil penalties, (2) are prohibited from manufacturing or selling products in violation of the CAA, tampering with a vehicle's emission control system, providing technical support for products that have already been sold in violation of the CAA, and transferring any intellectual property that could be used to manufacture defeat devices and (3) must periodically submit compliance reports and reports on their future involvement in the automotive industry. Both the payment schedule and the amount of civil penalties reflect Defendants' documented limited financial ability to pay.

The Publication of this notice opens a period for public comment on the proposed Consent Decree. Comments should be addressed to the Assistant Attorney General, Environment and Natural Resources Division, and should refer to United States of America v. Punch It Performance and Tuning, et al., D.J. Ref. No. 90-5-2-1-11965. Comments may be submitted by either email or by mail:

To submit comments: | Send them to:
By email | pubcomment-ees.enrd@usdoj.gov.
By mail | Assistant Attorney General, U.S. DOJ-ENRD, P.O. Box 7611, Washington, DC, 20044-7611.

During the public comment period, the proposed Consent Decree may be examined and downloaded at this Justice Department website: https://www.justice.gov/enrd/consent-decrees. We will provide a paper copy of the proposed Consent Decree upon written request and payment of reproduction costs. Please mail your request and payment to: Consent Decree Library, U.S. DOJ-ENRD, P.O. Box 7611, Washington, DC 20044-7611.

Please enclose a check or money order for $9.00 (25 cents per page reproduction cost) payable to the United States Treasury.

Thomas Carroll,
Assistant Section Chief, Environmental Enforcement Section, Environment and Natural Resources Division.

[FR Doc. 2020-00558 Filed 1-15-20; 8:45 am]

BILLING CODE 4410-15-P